COMMISSION ON CIVIL RIGHTS

Supplemental Hearing on Environmental Justice

AGENCY: Commission on Civil Rights.

ACTION: Notice of supplemental hearing.

SUMMARY: Notice is hereby given pursuant to the provisions of the Civil Rights Commission Amendments Act of 1994, section 3, Public Law 103-419, 108 Stat. 4338, as amended, and 45 CFR 702.3., that a public hearing before the U.S. Commission on Civil Rights will take place on Friday, February 8, 2002, at the U.S. Commission on Civil Rights, in the Fifth Floor Conference Room 540, 624 Ninth Street, NW., Washington, DC 20425, beginning at approximately 10:00 a.m., immediately following the Commission's regularly-scheduled monthly meeting. This is a continuation of the Commission's first environmental justice hearing, which was held on January 11, 2002, and first published in the Federal Register on December 13, 2001, at 66 FR 64397. The purpose of this supplemental hearing is to collect information within the jurisdiction of the Commission, under Public Law 98-183, section 5(a)(1) and section 5(a)(5), related particularly to the effect of environmental hazards, including hazardous waste sites and industries located in, or near, low-income communities and communities of color, and the question of whether the civil rights of those communities in question are being violated. The Commission is authorized to hold hearings and to issue subpoenas for the production of documents and the attendance of witnesses pursuant to 45 CFR 701.2. The Commission is an independent bipartisan, fact finding agency authorized to study, collect, and disseminate information, and to appraise the laws and policies of the Federal Government, and to study and collect information with respect to discrimination or denials of equal protection of the laws under the Constitution because of race, color, religion, sex, age, disability, or national origin, or in the administration of justice. Hearing impaired persons who will attend the hearing and require the services of a sign language interpreter, should contact Pamela Dunston, Administrative Services and Clearinghouse Division at (202) 376-8105 (TDD (202) 376-8116), at least five (5) working days before the scheduled date of the hearing.

FOR FURTHER INFORMATION CONTACT: Les Jin, Office of the Staff Director (202) 376-7700.

Dated: January 8, 2002.
Debra A. Carr,
Deputy General Counsel.

[FR Doc. 02-773 Filed 1-10-02; 8:45 am]

BILLING CODE 6335-01-M